DEPARTMENT OF LABOR

Employment and Training Administration

[TA-W-80,454]

TMI Forest Products, Inc., Crane Creek Division, Morton, WA; Notice of Negative Determination Regarding Application for Reconsideration

By application dated March 6, 2012, a representative of the Washington State Labor Counsel, AFL-CIO, requested administrative reconsideration of the Department of Labor's negative determination regarding eligibility to apply for Trade Adjustment Assistance (TAA), applicable to workers and former workers of TMI Forest Products, Inc., Crane Creek Division, Morton, Washington (subject firm). The determination was signed on February 17, 2012. The Notice of Determination was published in the Federal Register on March 6, 2012 (77 FR 13355).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination of the TAA petition filed on behalf of workers at the subject firm was based on the findings that the subject firm did not, during the period under investigation, shift to a foreign country production of articles like or directly competitive with the fence boards produced by the workers or acquire such production from a foreign country. Additionally, the findings revealed that the workers' separation, or threat of separation, was not related to any increase in imports, by the subject firm or its customers, of articles like or directly competitive with fence boards; and that the workers' firm is not a supplier or a downstream producer to a firm that employed a group of workers who are eligible to apply for TAA.

In the request for reconsideration, the petitioner stated that worker separations are attributable to increased import competition of articles like or directly competitive with the fence boards produced by the workers, to foreign competition of raw material used in the production of fence boards, and to the Canadian practice of using Bark Beetle affected timber. The documentation supplied by the petitioner included import and export data, news and opinion articles, printed web pages, and a copy of a certification of another fencing company (based on increased imports by that company's major declining customers).

The Department has carefully reviewed the petitioner's allegations and support documentation, as well as previously-submitted information.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 24th day of April 2012.
Del Min Amy Chen,
Certifying Officer, Office of Trade Adjustment Assistance.

[FR Doc. 2012-11056 Filed 5-7-12; 8:45 am]

BILLING CODE 4510-FN-P